DEPARTMENT OF JUSTICE

Notice of Lodging of Consent Decree Under the Clean Air Act

Under 28 CFR 50.7, notice is hereby given that on January 27, 2005, a Consent Decree in United States, et al. v. ConocoPhillips Company, Civil Action No. H-05-0258, was lodged with the United States District Court for the Southern District of Texas.

In a complaint that was filed simultaneously with the Consent Decree, the United States, the State of Illinois, the State of Louisiana, the State of New Jersey, the Commonwealth of Pennsylvania, and the Northwest Clean Air Agency in the State of Washington sought injunctive relief and penalties against ConocoPhillips Company (“COPC”), pursuant to sections 113(b) and 304(a) of the Clean Air Act (“CAA”), 42 U.S.C. 7413(b), 7604(a), for alleged CAA violations and violations of the corollary provisions in State laws occurring at the following refineries owned and operated by COPC: Roxanna/Hartford, Illinois; Belle Chasse, Louisiana; Linden, New Jersey; Trainer, Pennsylvania; Ferndale, Washington; Carson/Wilmington, California; Rodeo/Santa Maria, California; Borger, Texas; and Sweeny, Texas.

Under the settlement, COPC will implement innovative pollution control technologies to reduce emissions of nitrogen oxides, sulfur dioxide, and particulate matter from refinery process units. COPC also will adopt facility-wide enhanced benzene waste monitoring and fugitive emission controls programs. In addition, COPC will pay a civil penalty of $4.525 million for settlement of the claims in the complaint. Finally, COPC will undertake both Federal and State environmentally-beneficial projects worth more than $10 million including covering and oil/water separator at its New Jersey refinery; purchasing a foam aerial apparatus for mutual, emergency response aid in and around its Illinois refinery; donating $400,000 to a local emergency planning committee to fund radio systems and an emergency broadcast radio system in the area of COPC's Pennsylvania refinery; donating $400,000 to the Louisiana Department of Environmental Quality to support collection and recycling of household hazardous waste; purchasing a fire truck for mutual aid response in and around COPC's Washington refinery; replacing old fireplaces and wood stoves with new clean-burning fireplaces or certified wood stoves for low income households in the vicinity of the Washington refinery; and developing emissions inventories and targets for air pollution reduction by participating cities and towns in the vicinity of the Washington refinery.

The Department of Justice will receive for a period of thirty (30) days from the date of this publication comments relating to the Consent Decree. Comments should be addressed to the Assistant Attorney General, Environment and Natural Resources Division, P.O. Box 7611, U.S. Department of Justice, Washington, DC 20044-7611, and should refer to United States, et al. v. ConocoPhillips Company, D.J. Ref. No. 90-5-2-1-06722/1.

The Consent Decree may be examined at the Office of the United States Attorney, 910 Travis St., Suite 1500, Houston, Texas 77208, and at U.S. EPA Region 6, 1445 Ross Avenue, Dallas, Texas 75202-2733. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwoodusdoj.gov), fax number (202) 514-0097, phone confirmation number (202) 514-1547. In requesting a copy from the Consent Decree Library, please enclose a check in the amount of $73.25 (25 cents per page reproduction cost) payable to the U.S. Treasury.

Robert D. Brook,
Assistant Section Chief, Environmental Enforcement Section, Environment and Natural Resources Division.

[FR Doc. 05-2551 Filed 2-9-05; 8:45 am]

BILLING CODE 4410-15-M